NATIONAL FOUNDATION ON THE ARTS AND THE HUMANITIES

National Endowment for the Arts; President's Committee on the Arts and the Humanities: Meeting #61

Pursuant to section 10(a)(2) of the Federal Advisory Committee Act (Pub. L. 92-463), as amended, notice is hereby given that a meeting of the President's Committee on the Arts and the Humanities (PCAH) will be held on April 21, 2007, from 2 p.m. to 5:15 p.m. (ending time is tentative). The meeting will be held in the El Paso Museum of Art, One Arts Festival Plaza, El Paso, Texas 79901.

The Committee meeting will begin with a welcome, introductions, and announcements. Newly appointed committee members will be sworn in. Reports are anticipated from the National Endowment for the Humanities (NEH), the National Endowment for the Arts (NEA), and the Director of the Institute for Museum and Library Services. Other presentations are planned by Artist John Houser; Gabrielle Palmer, Historian; Yolanda Alameda, Director of Museums and Cultural Affairs, City of El Paso; and Michael Tomor, Executive Director, El Paso Museum of Art. The meeting will conclude with a discussion of other business, including focus on a Sister Parks Initiative linking world heritage sites, and closing remarks.

The President's Committee on the Arts and the Humanities was created by Executive Order in 1982, which currently states that the “Committee shall advise, provide recommendations to, and assist the President, the National Endowment for the Arts, the National Endowment for the Humanities, and the Institute of Museum and Library Services on matters relating to the arts and the humanities.”

Any interested persons may attend as observers, on a space available basis, but seating is limited. Therefore, for this meeting, individuals wishing to attend are advised to contact Jenny Schmidt of the President's Committee seven (7) days in advance of the meeting at (202) 682-5560 or write to the Committee at 1100 Pennsylvania Avenue, NW., Suite 526, Washington, DC 20506. Further information with reference to this meeting can also be obtained from Ms. Schmidt.

If you need special accommodations due to a disability, please contact Ms. Schmidt through the Office of AccessAbility, National Endowment for the Arts, 1100 Pennsylvania Avenue, NW., Suite 724, Washington, DC 20506, (202) 682-5532, TDY-TDD (202) 682-5560, at least seven (7) days prior to the meeting.

Dated: March 21, 2007.
Kathy Plowitz-Worden,
Panel Coordinator, Panel Operations, National Endowment for the Arts.

[FR Doc. E7-5653 Filed 3-28-07; 8:45 am]

BILLING CODE 7537-01-P